DEPARTMENT OF THE INTERIOR

Office of Natural Resources Revenue

30 CFR Parts 1206, 1210, 1218, 1220, 1227, 1228, and 1243

[Docket No. ONRR 2011-0016]

RIN 1012-AA07

Amendments to OMB Control Numbers and Certain Forms

AGENCY: Office of Natural Resources Revenue, Interior.

ACTION: Direct final rule.

SUMMARY: On May 19, 2010, the Secretary of the Interior separated the responsibilities previously performed by the former Minerals Management Service (MMS) and reassigned those responsibilities to three separate organizations. As part of this reorganization, the Secretary renamed MMS's Minerals Revenue Management Program (MRM) the Office of Natural Resources Revenue (ONRR) and directed that ONRR transition to the Office of the Assistant Secretary—Policy, Management and Budget (PMB). This change required ONRR to reorganize its regulations and repromulgate them in chapter XII, title 30 of the Code of Federal Regulations (CFR). This direct final rule amends the Office of Management and Budget (OMB) control numbers for information collection requirements, certain form numbers, and corresponding technical corrections to part and position titles, agency names, and acronyms listed in chapter XII of 30 CFR.

DATES: This rule is effective on December 8, 2011.

FOR FURTHER INFORMATION CONTACT: For questions on technical issues, contact Armand Southall, Regulatory Specialist, ONRR, telephone (303) 231-3221; or email armand.southall@onrr.gov. You may obtain a paper copy of this rule by contacting Mr. Southall by phone or email.

SUPPLEMENTARY INFORMATION:

I. Background

On May 19, 2010, by Secretarial Order No. 3299, the Secretary of the Department of the Interior (Secretary) announced the restructuring of MMS. On June 18, 2010, by Secretarial Order No. 3302, the Secretary announced the name change of MMS to the Bureau of Ocean Energy Management, Regulation, and Enforcement (BOEMRE). By these orders, the Secretary separated the responsibilities previously performed by MMS and reassigned those responsibilities to three separate organizations: the Office of Natural Resources Revenue (ONRR); the Bureau of Ocean Energy Management (BOEM); and the Bureau of Safety and Environmental Enforcement (BSEE). The ONRR is responsible for the former MRM royalty and revenue functions.

II. Explanation of Proposed Amendments

In this direct final rule, ONRR amends the approved OMB control numbers for information collection requests and certain form numbers listed in certain parts of title 30 CFR, chapter XII. This direct final rule does not make any substantive changes to the regulations or requirements in chapter XII. It merely amends ONRR's OMB control and certain form numbers in the new chapter XII of 30 CFR and makes any necessary corresponding technical corrections to part and position titles, agency names, and acronyms. This rule will not have any effect on the rights, obligations, or interests of any affected parties. Thus, under 5 U.S.C. 553(b)(B), ONRR, for good cause, finds that notice and comment on this rule are unnecessary and contrary to the public interest. Additionally, because this document is a “rule[] of agency organization, procedure or practice” under 5 U.S.C. 553(b)(A), this document is in any event exempt from the notice and comment requirements of 5 U.S.C. 553(b). Lastly, because this non-substantive rule makes no changes to the legal obligations or rights of any affected parties, and because it is in the public interest to have this rule be effective just as soon as possible, ONRR finds that good cause exists under 5 U.S.C. 553(d)(3) to make this rule effective immediately upon publication in the Federal Register rather than 30 days after publication.

In the near future, ONRR will make additional technical corrections to its regulations as required by the restructuring of the former MMS into the three separate organizations. As noted, this direct final rule amends the following 30 CFR parts and the related existing subparts:

• Part 1206—Product Valuation.

• Part 1210—Forms and Reports.

• Part 1218—Collection of Monies and Provision for Geothermal Credits and Incentives.

• Part 1220—Accounting Procedures for Determining Net Profit Share Payment for Outer Continental Shelf Oil and Gas Leases.

• Part 1227—Delegation to States.

• Part 1228—Cooperative Activities with States and Indian Tribes.

• Part 1243—Suspensions Pending Appeal and Bonding—Minerals Revenue Management.

These amendments to the regulations are explained further in the following sections:

A. Part 1206—Product Valuation

We are revising part 1206, subpart H.

In § 1206.356(a)(2), we are correcting the thermal energy displaced equation. Prior to the enactment of the Energy Policy Act of 2005 (EPAct, Pub. L. 109-5, 119 Stat. 1092, Aug. 8, 2005), the then Minerals Management Service's (MMS) regulations at 30 CFR 206.255(c)(1)(ii) (pertaining to the calculation of royalties due on geothermal resources used for direct utilization purposes) employed a thermal energy displaced equation with a conversion factor of 0.133681. With the enactment of the EPAct, the then MMS amended its regulations regarding the calculation of royalties due for geothermal steam resources (72 FR 24448, May 2, 2007). When it amended these regulations, at 30 CFR 206.356(a)(2) (now 30 CFR 1206.356(a)(2)), the then MMS inadvertently and erroneously changed the above-described conversion factor from 0.133681 (the correct number) to 0.113681. The ONRR now desires to make this technical correction and change the incorrectly described conversion factor of 0.113681 back to the correct conversion factor of 0.133681.

B. Part 1210—Forms And Reports

We are revising part 1210, subparts A, B, C, D, E, and H.

1. OMB Control and Form Numbers. Currently, 30 CFR 1210.10 contains a list of information collections approved by OMB prior to ONRR's separation from BOEMRE. In this rule, we are providing, under 30 CFR 1210.10, an updated information collection requests (ICR) table showing OMB control and certain form numbers approved by OMB for current ICRs. We will update the remaining form numbers to replace “MMS” with “ONRR” as we complete our form update process.

2. Agency information. In part 1210, we also are amending agency names, mail stops, street addresses, Web site addresses, and form names.

C. Part 1218—Collection of Monies and Provision for Geothermal Credits and Incentives

We are amending the title of part 1218 to reflect ONRR's royalty and revenue functions.

D. Part 1220—Accounting Procedures for Determining Net Profit Share Payment for Outer Continental Shelf Oil and Gas Leases

1. In § 1220.003(a), we are removing the first sentence and adding sentences stating that OMB has approved the information collection requirements and the OMB control number.

2. In § 1220.003(b), we are revising the paragraph, including the agency addresses and OMB control number.

E. Part 1227—Delegation to States

1. In § 1227.10(a), we are removing the first sentence and adding sentences stating that OMB has approved the information collection requirements and the OMB control number.

2. In § 1227.10(b), we are revising the paragraph, including the agency addresses and OMB control number.

F. Part 1228—Cooperative Activities With States and Indian Tribes

1. In § 1228.10(a), we are removing the first sentence and adding sentences stating that OMB has approved the information collection requirements and the OMB control number.

2. In § 1228.10(b), we are revising the paragraph, including the agency addresses and OMB control number.

G. Part 1243—Suspensions Pending Appeal and Bonding—Minerals Revenue Management

1. We are amending the title of part 1243 to reflect the reorganization.

2. In § 1243.200(a)(1) and (a)(2), we are revising the mailing addresses and courier or overnight delivery address.

III. Procedural Matters

1. Regulatory Planning and Review (E.O. 12866)

This document is not a significant rule, and the Office of Management and Budget (OMB) will not review this rule under Executive Order 12866.

a. This direct final rule does not have an effect of $100 million or more per year on the economy. It does not adversely affect in a material way the economy, productivity, competition, jobs, the environment, public health or safety, or state, local, or tribal governments or communities.

b. This direct final rule does not create a serious inconsistency or otherwise interfere with an action taken or planned by another agency.

c. This direct final rule does not alter the budgetary effects of entitlements, grants, user fees, or loan programs or the rights or obligations of their recipients.

d. This direct final rule does not raise novel legal or policy issues.

2. Regulatory Flexibility Act

The Department of the Interior certifies that this direct final rule does not have a significant economic effect on a substantial number of small entities under the Regulatory Flexibility Act (5 U.S.C. 601 et seq.). This direct final rule will impact large and small entities but will not have a significant economic effect on either because this is a technical rule to renumber already approved OMB control numbers, rename certain forms, and correct corresponding part and position titles, agency names, and acronyms for ONRR's ICRs listed in title 30 CFR, chapter XII, regulations.

3. Small Business Regulatory Enforcement Fairness Act

This direct final rule is not a major rule under 5 U.S.C. 804(2), the Small Business Regulatory Enforcement Fairness Act. This direct final rule:

a. Does not have an annual effect on the economy of $100 million or more.

b. Will not cause a major increase in costs or prices for consumers, individual industries, Federal, state, or local government agencies, or geographic regions.

c. Does not have significant adverse effects on competition, employment, investment, productivity, innovation, or the ability of U.S.-based enterprises to compete with foreign-based enterprises.

4. Unfunded Mandates Reform Act

This direct final rule does not impose an unfunded mandate on state, local, or tribal governments, or the private sector of more than $100 million per year. This direct final rule does not have a significant or unique effect on state, local, or tribal governments, or the private sector. A statement containing the information required by the Unfunded Mandates Reform Act (2 U.S.C. 1531 et seq.) is not required.

5. Takings (E.O. 12630)

Under the criteria in Executive Order 12630, this direct final rule does not have any significant takings implications. This direct final rule applies to Outer Continental Shelf (OCS) and Federal and Indian onshore leases. It does not apply to private property. A takings implication assessment is not required.

6. Federalism (E.O. 13132)

Under the criteria in Executive Order 13132, this direct final rule does not have sufficient federalism implications that warrant the preparation of a Federalism Assessment. This is a technical rule to renumber already approved OMB control numbers, rename certain forms, and correct corresponding part and position titles, agency names, and acronyms for ONRR's ICRs listed in title 30 CFR, chapter XII, regulations. A Federalism Assessment is not required.

7. Civil Justice Reform (E.O. 12988)

This direct final rule complies with the requirements of Executive Order 12988. Specifically, this rule:

a. Meets the criteria of section 3(a) requiring that all regulations be reviewed to eliminate errors and ambiguity and be written to minimize litigation; and

b. Meets the criteria of section 3(b)(2) requiring that all regulations be written in clear language and contain clear legal standards.

8. Consultation With Indian Tribes (E.O. 13175)

Under the criteria in Executive Order 13175, we have evaluated this direct final rule and determined that it has no effects on federally recognized Indian tribes.

9. Paperwork Reduction Act

This direct final rule does not contain any new information collection requirements, and a submission to OMB is not required under the Paperwork Reduction Act of 1995 (44 U.S.C. 3501 et seq.).

10. National Environmental Policy Act

This rule does not constitute a major Federal action significantly affecting the quality of the human environment. A detailed statement under the National Environmental Policy Act of 1969 (NEPA) is not required because this rule is categorically excluded under: “(i) Policies, directives, regulations, and guidelines: that are of an administrative, financial, legal, technical, or procedural nature.” See 43 CFR 46.210(i) and the DOI Departmental Manual, part 516, section 15.4.D. We have also determined that this rule is not involved in any of the extraordinary circumstances listed in 43 CFR 46.215 that would require further analysis under NEPA. The procedural changes resulting from these amendments have no consequences with respect to the physical environment. No activity bearing on natural resource exploration, production, or transportation will be altered in any material way.

11. Data Quality Act

In developing this direct final rule, we did not conduct or use a study, experiment, or survey requiring peer review under the Data Quality Act (Pub. L. 106-554).

12. Information Quality Act

In accordance with the Information Quality Act, the Department of the Interior has issued guidance regarding the quality of information that it relies on for regulatory decisions. This guidance is available on DOI's Web site at http://www.doi.gov/ocio/iq.html.

13. Effects on the Energy Supply (E.O. 13211)

This direct final rule is not a significant energy action under the definition in Executive Order 13211. A Statement of Energy Effects is not required.

14. Clarity of This Regulation

We are required by Executive Orders 12866 and 12988 and by the Presidential Memorandum of June 1, 1998, to write all rules in plain language. This means that each rule we publish must: (a) Be logically organized; (b) Use the active voice to address readers directly; (c) Use clear language rather than jargon; (d) Be divided into short sections and sentences; and (e) Use lists and tables wherever possible.

If you feel that we have not met these requirements, send your remarks to armand.southall@onrr.gov. To better help us revise the rule, your remarks should be as specific as possible. For example, you should tell us the numbers of the sections or paragraphs that are unclearly written, which sections or sentences are too long, the sections where you feel lists or tables would be useful, etc.

List of Subjects

30 CFR Part 1206

Coal, Continental shelf, Geothermal energy, Government contracts, Indians—lands, Mineral royalties, Oil and gas exploration, Public lands—mineral resources, Reporting and recordkeeping requirements.

30 CFR Part 1210

Continental shelf, Geothermal energy, Government contracts, Indians—lands, Mineral royalties, Oil and gas exploration, Public lands—mineral resources, Reporting and recordkeeping requirements, Sulfur.

30 CFR Part 1218

Continental shelf, Electronic funds transfers, Geothermal energy, Indians—lands, Mineral royalties, Oil and gas exploration, Public lands—mineral resources, Reporting and recordkeeping requirements.

30 CFR Part 1220

Accounting, Continental shelf, Government contracts, Mineral royalties, Oil and gas exploration, Public lands—mineral resources, Reporting and recordkeeping requirements.

30 CFR Part 1227

Administrative practice and procedure, Mineral royalties, Reporting and recordkeeping requirements.

30 CFR Part 1228

Accounting, Administrative practice and procedure, Indians—lands, Intergovernmental relations, Mineral royalties, Oil and gas exploration, Public lands—mineral resources, Reporting and recordkeeping requirements.

30 CFR Part 1243

Administrative practice and procedure, Government contracts, Mineral royalties, Public lands—mineral resources.

Dated: November 9, 2011.
Rhea Suh,
Assistant Secretary, Policy, Management and Budget.

Authority and Issuance

For the reasons discussed in the preamble, under the authority provided by the Reorganization Plan No. 3 of 1950 (64 Stat. 1262) and Secretarial Order Nos. 3299 and 3302, ONRR amends parts 1206, 1210, 1218, 1220, 1227, 1228, and 1243 of title 30 CFR, chapter XII, subchapter A, as follows:

PART 1206—PRODUCT VALUATION

1. The authority citation for part 1206 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., 1801 et seq.

§ 1206.356 [Amended]

2. Amend § 1206.356 in the thermal energy displaced equation in paragraph (a)(2) by removing “0.113681” and adding in its place “0.133681”.

PART 1210—FORMS AND REPORTS

3. The authority citation for part 1210 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

4. In § 1210.10, revise the table to read as follows:

§ 1210.10 What are the OMB-approved information collections?

* * * * *

OMB control number and short title | Form or information collected
1012-0001, CFO Act of 1992, Accounts Receivable Confirmations | No form for the following collection: • Accounts receivable confirmations.
1012-0002, 30 CFR Parts 1202, 1206, and 1207, Indian Oil and Gas Valuation | Form MMS-4109, Gas Processing Allowance Summary Report. Form MMS-4110, Oil Transportation Allowance Report.
| Form MMS-4295, Gas Transportation Allowance Report.
| Form MMS-4393, Request to Exceed Regulatory Allowance Limitation.¹
| Form MMS-4410, Accounting for Comparison [Dual Accounting].
| Form MMS-4411, Safety Net Report.
1012-0003, 30 CFR Parts 1227, 1228, and 1229, Delegation to States and Cooperative Activities with States and Indian Tribes | No forms for the following collections: • Written delegation proposal to perform auditing and investigative activities. • Request for cooperative agreement and subsequent requirements.
1012-0004, 30 CFR Parts 1210 and 1212, Royalty and Production Accounting | Form MMS-2014, Report of Sales and Royalty Remittance. Form MMS-4054 (Parts A, B, and C), Oil and Gas Operations Report.
| Form MMS-4058, Production Allocation Schedule Report.
1012-0005, 30 CFR Parts 1202, 1204, 1206, and 1210, Federal Oil and Gas Valuation | Form MMS-4377, Stripper Royalty Rate Reduction Notification. Form MMS-4393, Request to Exceed Regulatory Allowance Limitation.¹
| No form for the following collection:
| • Federal oil valuation support information.
1012-0006, 30 CFR Part 1243, Suspensions Pending Appeal and Bonding | Form ONRR-4435, Administrative Appeal Bond. Form ONRR-4436, Letter of Credit. Form ONRR-4437, Assignment of Certificate of Deposit.
| No forms for the following collections:
| • Self bonding.
| • U.S. Treasury securities.
1012-0007, 30 CFR Part 1208, Royalty in Kind (RIK) Oil and Gas | Form MMS-4070, Application for the Purchase of Royalty Oil. Form MMS-4071, Letter of Credit (RIK).
| Form MMS-4072, Royalty-in-Kind Contract Surety Bond.
| No form for the following collection:
| • Royalty oil sales to eligible refiners.
1012-0008, 30 CFR Part 1218, Collection of Monies Due the Federal Government | Form ONRR-4425, Designation Form for Royalty Payment Responsibility. No forms for the following collections:
| • Cross-lease netting documentation.
| • Indian recoupment approval.
1012-0009, 30 CFR Part 1220, OCS Net Profit Share Payment Reporting | No form for the following collection: • Net profit share payment information.
1012-0010, 30 CFR Parts 1202, 1206, 1210, 1212, 1217, and 1218, Solid Minerals and Geothermal Collections | Form MMS-4430, Solid Minerals Production and Royalty Report. Form MMS-4292, Coal Washing Allowance Report. Form MMS-4293, Coal Transportation Allowance Report.
| No forms for the following collections:
| • Facility data—solid minerals.
| • Sales contracts—solid minerals.
| • Sales summaries—solid minerals.
¹ Form MMS-4393 is used for both Federal and Indian oil and gas leases. The form resides with ICR 1012-0005, but the burden hours for Indian leases are included in ICR 1012-0002.

§§ 1210.10, 1210.20, 1210.21, 1210.56, 1210.106, 1210.151, 1210.152, 1210.153, 1210.155, 1210.157, 1210.158, 1210.202, 1210.205, 1210.354 [Amended]

5. In the following table, amend part 1210 in the sections indicated in the left column by removing the text in the center column and adding in its place the text in the right column.

Amend | By removing: | And adding in its place:
§ 1210.10 | http://www.mrm.boemre.gov/Laws_R_D/FRNotices/FRNotices.htm | http://www.onrr.gov/Laws_R_D/FRNotices/FRInfColl.htm.
§ 1210.20 | http://www.mrm.boemre.gov/Laws_R_D/FRNotices/FRNotices.htm | http://www.onrr.gov/Laws_R_D/FRNotices/FRInfColl.htm.
§ 1210.20 | Bureau of Ocean Energy Management, Regulation, and Enforcement | Office of Natural Resources Revenue.
§ 1210.20 | Attention: Information Collection Clearance Officer | Attention: Rules & Regs Team.
§ 1210.20 | 1010-XXXX 381 Elden Street, Herndon, VA 20170 | 1012-XXXX P.O. Box 25165, Denver, CO 80225-0165.
§ 1210.21(a) | http://www.mrm.boemre.gov/ReportingServices/PDFDocs/RevenueHandbook.pdf | http://www.onrr.gov/FM/Handbooks/default.htm.
§ 1210.56(a) | http://www.mrm.boemre.gov/ReportingServices/Handbooks/Handbks.htm | http://www.onrr.gov/FM/Handbooks/default.htm.
§ 1210.56(c) | http://www.mrm.boemre.gov/ReportingServices/Forms/AFSOil_Gas.htm | http://www.onrr.gov/FM/Forms/AFSOil_Gas.htm.
§ 1210.106(a) | http://www.mrm.mms.gov/ReportingServices/Handbooks/Handbks.htm | http://www.onrr.gov/FM/Handbooks/default.htm.
§ 1210.106(c) | http://www.mrm.mms.gov/ReportingServices/Forms/PAASOff.htm | http://www.onrr.gov/FM/Forms/PAASOff.htm.
§ 1210.151(b) | http://www.mrm.mms.gov/ReportingServices/Forms/AFSOil_Gas.htm | http://www.onrr.gov/FM/Forms/AFSoil_Gas.htm.
§ 1210.152(b) | http://www.mrm.mms.gov/ReportingServices/Forms/AFSOil_Gas.htm | http://www.onrr.gov/FM/Forms/AFSoil_Gas.htm.
§ 1210.153(b) | http://www.mrm.mms.gov/ReportingServices/Forms/AFSOil_Gas.htm | http://www.onrr.gov/FM/Forms/AFSoil_Gas.htm.
§ 1210.155(b) introductory text | http://www.mrm.mms.gov/ReportingServices/Forms/AFSOil_Gas.htm | http://www.onrr.gov/FM/Forms/AFSoil_Gas.htm.
§ 1210.157(a) | Form MMS-4435 | Form ONRR-4435.
| Form MMS-4436 | Form ONRR-4436.
| Form MMS-4437 | Form ONRR-4437.
§ 1210.157(b) | http://www.mrm.mms.gov/Laws_R_D/FRNotices/ICR0122.htm | http://www.onrr.gov/Laws_R_D/FRNotices/ICR0122.htm.
§ 1210.157(c)(1) | MS 370B2 | MS 64220.
§ 1210.157(c)(2) | MS 370B2 | MS 64220.
§ 1210.158(b) | http://www.mrm.boemre.gov/ReportingServices/Forms/AFSOil_Gas.htm | http://www.onrr.gov/FM/Forms/AFSOil_Gas.htm.
§ 1210.202(c)(2)(i) | Solids Minerals and Geothermal Compliance and Asset Management, MS 390G1 | Solid Minerals and Geothermal (A&C), MS 62530B.
§ 1210.202(c)(2)(ii) | Solids Minerals and Geothermal Compliance and Asset Management, 12600 West Colfax Avenue, Suite C-100, Lakewood, Colorado 80215 | Solid Minerals and Geothermal (A&C), MS 62530B, Room A-614, Bldg 85, DFC, Denver, Colorado 80225.
§ 1210.205(b) | http://www.mrm.mms.gov/ReportingServices/Forms/AFSSOL_Min.htm | http://www.onrr.gov/FM/Forms/AFSSol_Min.htm.
§ 1210.354 | http://www.mrm.mms.gov/ | http://www.onrr.gov/FM/Handbooks/default.htm.

PART 1218—COLLECTION OF ROYALTIES, RENTALS, BONUSES, AND OTHER MONIES DUE THE FEDERAL GOVERNMENT

6. The authority citation for part 1218 continues to read as follows:

Authority: 25 U.S.C. 396 et seq., 396a et seq., 2101 et seq.; 30 U.S.C. 181 et seq., 351 et seq., 1001 et seq., 1701 et seq.; 31 U.S.C. 3335; 43 U.S.C. 1301 et seq., 1331 et seq., and 1801 et seq.

7. Revise the heading for part 1218 to read as set forth above.

PART 1220—ACCOUNTING PROCEDURES FOR DETERMINING NET PROFIT SHARE PAYMENT FOR OUTER CONTINENTAL SHELF OIL AND GAS LEASES

8. The authority citation for part 1220 continues to read as follows:

Authority: Sec. 205, Pub. L. 95-372, 92 Stat. 643 (43 U.S.C. 1337).

9. Amend § 1220.003 by revising the first sentence in paragraph (a) and revise paragraph (b) to read as follows:

§ 1220.003 Information collection.

(a) The Office of Management and Budget (OMB) approved the information collection requirements contained in this part under 44 U.S.C. 3501 et seq. The approved OMB control number is identified in 30 CFR 1210.10. * * *

(b) Send comments regarding the burden estimates or any other aspect of this information collection, including suggestions for reducing burden, to the Office of Natural Resources Revenue, Attention: Rules & Regs Team, OMB Control Number 1012-0009, P.O. Box 25165, Denver, CO 80225-0165.

PART 1227—DELEGATION TO STATES

10. The authority citation for part 1227 continues to read as follows:

Authority: 30 U.S.C. 1735; 30 U.S.C. 196; Pub L. 102-154.

11. Amend § 1227.10 by revising the first sentence in paragraph (a) and revising paragraph (b) to read as follows:

§ 1227.10 What is the authority for information collection.

(a) The Office of Management and Budget (OMB) approved the information collection requirements contained in this part under 44 U.S.C. 3501 et seq. The approved OMB control number is identified in 30 CFR 1210.10. * * *

(b) The Federal Government will reimburse some costs, as provided by statute, for delegated functions that each state performs. However, states could incur additional start-up costs, such as purchasing equipment necessary to perform a delegated function that may not be reimbursable. The ONRR estimates that each payor or reporter will coordinate their interactions and communications among the several states and with ONRR. Send comments regarding the burden estimates or any other aspect of this information collection, including suggestions for reducing burden, to the Office of Natural Resources Revenue, Attention: Rules & Regs Team, OMB Control Number 1012-0003, P.O. Box 25165, Denver, CO 80225-0165.

PART 1228—COOPERATIVE ACTIVITIES WITH STATES AND INDIAN TRIBES

12. The authority citation for 30 CFR part 1228 continues to read as follows:

Authority: Sec. 202, Pub. L. 97-451, 96 Stat. 2457 (30 U.S.C. 1732).

12. Amend § 1228.10 by removing the first sentence in paragraph (a) and adding two new sentences in its placy and by revising paragraph (b) to read as follows:

§ 1228.10 Information collection.

(a) The Office of Management and Budget (OMB) approved the information collection requirements contained in this part under 44 U.S.C. 3501 et seq. The approved OMB control number is identified in 30 CFR 1210.10. * * *

(b) Send comments regarding the burden estimates or any other aspect of this information collection, including suggestions for reducing burden, to the Office of Natural Resources Revenue, Attention: Rules & Regs Team, OMB Control Number 1012-0003, P.O. Box 25165, Denver, CO 80225-0165.

PART 1243—SUSPENSIONS PENDING APPEAL AND BONDING—OFFICE OF NATURAL RESOURCES REVENUE

13. The authority citation for part 1243 continues to read as follows:

Authority: 5 U.S.C. 301 et seq., 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

14. Revise the heading for part 1243 to read as set forth above.

§ 1243.200 [Amended]

15. In the following table, amend § 1243.200 in the paragraphs indicated in the left column by removing the text in the center column and adding in its place the text in the right column.

Amend | By removing: | And adding in its place:
§ 1243.200(a)(1) | P.O. Box 5760, MS 3031, Denver, CO 80217-5760 | Office of Natural Resources Revenue, Office of Enforcement, P.O. Box 25165, MS 64200B, Denver, Colorado 80225-0165.
§ 1243.200(a)(2) | MS 3031, Denver Federal Center, Bldg 85, Room A-212, Denver CO 80225-0165 | Office of Natural Resources Revenue, MS 64200B, Document Processing Team, Room A-614, Bldg 85, DFC, Denver, Colorado 80225-0165.

[FR Doc. 2011-31500 Filed 12-7-11; 8:45 am]

BILLING CODE 4310-T2-P